DEPARTMENT OF HEALTH AND HUMAN SERVICES

Centers for Disease Control and Prevention

Performance Review Board Members

AGENCY: Centers for Disease Control and Prevention (CDC), Department of Health and Human Services (HHS).

ACTION: Notice.

SUMMARY: The Centers for Disease Control and Prevention (CDC) located within the Department of Health and Human Services (HHS) is publishing the names of the Performance Review Board Members who are reviewing performance of Senior Executive Service (SES) members, Title 42 (T42) executives, Senior Level (SL), and ST (Scientific Professional) employees for fiscal year 2024.

FOR FURTHER INFORMATION CONTACT: Eva Osuchukwu, Team Chief, Executive and Scientific Resources Office, Human Resources Office, Centers for Disease Control and Prevention, 11 Corporate Square Blvd., Mailstop US11-2, Atlanta, Georgia 30341, Telephone (404)783-7410.

SUPPLEMENTARY INFORMATION:

The Civil Service Reform Act of 1978 (Pub. L. 95-454, 5 U.S.C. 4314(c)(4)) requires that the appointment of Performance Review Board Members be published in the Federal Register. The following persons will serve on the CDC Performance Review Board, which will oversee the evaluation of performance appraisals of Senior Executive Service members for the fiscal year 2024 review period:

Arispe, Irma

Bonander, Jason

Dauphin, Leslie

Dulin, Stephanie

Durst, Kelley

Ethier, Kathleen, Co-Chair

George, Dylan

Kuhnert, Wendi

Laserson, Kayla

Perry, Terrance

Reh, Christopher

Taylor, Dia, Co-Chair

Tomlinson, Hank

Noah Aleshire,
Chief Regulatory Officer, Centers for Disease Control and Prevention.

[FR Doc. 2024-20226 Filed 9-6-24; 8:45 am]

BILLING CODE 4163-18-P